DEPARTMENT OF LABOR

Employment and Training Administration

[TA-W-59,380]

Siemens VDO, Elkhart, IN; Notice of Termination of Investigation

Pursuant to Section 221 of the Trade Act of 1974, as amended, an investigation was initiated on May 12, 2006 in response to a worker petition filed Teamsters Local 364 on behalf of workers at Siemens VDO, Elkhart, Indiana.

The petitioner has requested that the petition be withdrawn. Consequently, this investigation has been terminated.

Signed at Washington, DC, this 2nd day of June, 2006.
Richard Church,
Certifying Officer, Division of Trade Adjustment Assistance.

[FR Doc. E6-10517 Filed 7-5-06; 8:45 am]

BILLING CODE 4510-30-P